NATIONAL SCIENCE FOUNDATION

Conservation Act of 1978; Notice of Permit Modification

AGENCY: National Science Foundation.

SUMMARY: The Foundation modified a permit to conduct activities regulated under the Antarctic Conservation Act of 1978 (Pub. L. 95-541; Code of Federal Regulations Title 45, Part 670).

FOR FURTHER INFORMATION CONTACT: Nadene G. Kennedy, Permit Officer, Office of Polar Programs, Rm. 755, National Science Foundation, 4201 Wilson Boulevard, Arlington, VA 22230.

SUPPLEMENTARY INFORMATION: On September 28, 2000, the National Science Foundation issued a permit (ACA #2001-011) to Dr. Wayne Z. Trivelpiece after posting a notice in the August 29, 2000 Federal Register. Public comments were not received. A request to modify the permit was posted in the Federal Register on September 3, 2003. No public comments were received. The modification was issued by the Foundation on October 14, 2003.

Nadene G. Kennedy,
Permit Officer.

[FR Doc. 03-27459 Filed 10-30-03; 8:45 am]

BILLING CODE 7555-01-M